DEPARTMENT OF TRANSPORTATION

Coast Guard

33 CFR Parts 100 and 165

[USCG-2001-10936]

Safety Zones, Security Zones, and Special Local Regulations

AGENCY: Coast Guard, DOT.

ACTION: Notice of temporary rules issued.

SUMMARY: This document provides required notice of substantive rules issued by the Coast Guard and temporarily effective between April 1, 2001 and June 30, 2001 which were not published in the Federal Register. This quarterly notice lists temporary local regulations, security zones, and safety zones of limited duration and for which timely publication in the Federal Register was not possible.

DATES: This notice lists temporary Coast Guard regulations that became effective and were terminated between April 1, 2001 and June 30, 2001. This notice also lists regulations that were effective and terminated between January 1, 2001, and March 31, 2001.

ADDRESSES: The Docket Management Facility maintains the public docket for this notice. Documents indicated in this notice will be available for inspection or copying at the Docket Management Facility, U.S. Department of Transportation, Room PL-401, 400 Seventh Street, SW., Washington, DC 20593-0001 between 9 a.m. and 5 p.m., Monday through Friday, except Federal Holidays. You may electronically access the public docket for this notice on the Internet at http://dms.dot.gov.

FOR FURTHER INFORMATION CONTACT: For questions on this notice, contact Christena Green, Office of Regulations and Administrative Law, telephone (202) 267-0133. For questions on viewing, or on submitting material to the docket, contact Dorothy Beard, Chief, Dockets, Department of Transportation, (202) 366-5149.

SUPPLEMENTARY INFORMATION: District Commanders and Captains of the Port (COTP) must be immediately responsive to the safety and security needs of the waters within their jurisdiction; therefore, District Commanders and COTPs have been delegated the authority to issue certain local regulations. Safety zones may be established for safety or environmental purposes. A safety zone may be stationary and described by fixed limits or it may be described as a zone around a vessel in motion. Security zones limit access to vessels, ports, or waterfront facilities to prevent injury or damage. Special local regulations are issued to enhance the safety of participants and spectators at regattas and other marine events. Timely publication of these regulations in the Federal Register is often precluded when a regulation responds to an emergency, or when an event occurs without sufficient advance notice. The affected public is, however, informed of these regulations through Local Notices to Mariners, press releases, and other means. Moreover, actual notification is provided by Coast Guard patrol vessels enforcing the restrictions imposed by the regulation. Because Federal Register publication was not possible before the beginning of the effective period, mariners were personally notified of the contents of these special local regulations, security zones, or safety zones by Coast Guard officials on-scene prior to enforcement action. However, the Coast Guard, by law, must publish in the Federal Register notice of substantive rules adopted. To meet this obligation without imposing undue expense on the public, the Coast Guard periodically publishes a list of these temporary special local regulations, security zones, and safety zones. Permanent regulations are not included in this list because they are published in their entirety in the Federal Register. Temporary regulations may also be published in their entirety if sufficient time is available to do so before they are placed in effect or terminated. The safety zones, special local regulations and security zones listed in this notice have been exempted from review under Executive Order 12866 because of their emergency nature, or limited scope and temporary effectiveness.

The following regulations were placed in effect temporarily during the period April 1, 2001 and June 30, 2001, unless otherwise indicated. This notice also includes regulations that were not received in time to be included on the quarterly notice for the first quarter of 2001.

Dated: November 1, 2001.
S.G. Venckus,
Chief, Office of Regulations and Administrative Law.

District Quarterly Report
District docket | Location | Type | Effective date
01-01-033 | Portland, ME | Safety Zone | 04/07/2001.
01-01-050 | Bath Iron Works, Portland, ME | Safety Zone | 04/11/2001.
01-01-072 | Port of New York/New Jersey Fleet Week | Security Zone | 05/23/2001.
01-01-073 | Fireworks Display, Newport, RI | Safety Zone | 06/29/2001.
01-01-080 | Boston, MA | Safety Zone | 04/09/2001.
01-01-086 | Kennebec River, Bath, ME | Safety Zone | 06/23/2001.
01-01-091 | Fireworks Display, Orleans, MA | Safety Zone | 06/30/2001.
01-01-094 | USS Monterey Port Visit, Boston, MA | Safety Zone | 06/08/2001.
01-01-097 | Mayflower II Port Visit, Boston, MA | Safety Zone | 06/24/2001.
01-01-106 | USS Klakring Port Visit, Gloucester, MA | Safety Zone | 06/28/2001.
01-01-109 | USS Wasp Port Visit, Boston, MA | Safety Zone | 06/29/2001.
05-01-010 | Mantoloking, NJ | Special Local | 05/20/2001.
05-01-012 | Patuxent River, Solomons, MD | Special Local | 05/27/2001.
05-01-014 | James River, VA | Safety Zone | 05/21/2001.
05-01-015 | Presidential Visit, Annapolis, MD | Security Zone | 05/25/2001.
05-01-016 | Ocean City, MD | Safety Zone | 06/18/2001.
05-01-017 | Hampton Roads, VA | Safety Zone | 06/14/2001.
05-01-024 | Delaware City, Delaware | Special Local | 06/16/2001.
05-01-025 | Delaware River, Camden, NJ | Special Local | 06/30/2001.
07-01-020 | San Juan Harbor, Puerto Rico | Special Local | 04/01/2001.
07-01-028 | Charleston Harbor, Charleston, SC | Special Local | 04/21/2001.
07-01-029 | Savannah River, Savannah, GA | Special Local | 05/21/2001.
07-01-032 | Miami Beach, FL | Special Local | 04/22/2001.
07-01-041 | Myrtle Beach, SC | Special Local | 06/01/2001.
07-01-044 | Hardeeville, SC | Special Local | 06/06/2001.
09-01-028 | Muskegon, Michigan | Safety Zone | 05/05/2001.
09-01-031 | Algoma Harbor, Algoma, WI | Safety Zone | 06/23/2001.
09-01-043 | Milwaukee, WI | Safety Zone | 06/02/2001.
09-01-056 | Pridefest 2001, Milwaukee Harbor, WI | Safety Zone | 06/08/2001.
09-01-061 | Niagara River, Tonawanda, NY | Safety Zone | 06/23/2001.
09-01-068 | USS Silversides Filming, Lake Michigan | Safety Zone | 06/25/2001.
09-01-077 | Milwaukee Harbor, Milwaukee, WI | Safety Zone | 06/28/2001.
13-01-009 | Sub Ex-Narwhal, Puget Sound, WA | Safety Zone | 05/27/2001.
13-01-014 | Nana Provider, Swinomish Channel, WA | Safety Zone | 06/21/2001.
13-01-016 | Nana Provider, Swinomish Channel, WA | Safety Zone | 06/24/2001.

COTP Quarterly Report
COTP Docket | Location | Type | Effective date
Charleston 01-126 | Charleston, SC | Safety Zone | 04/02/2001.
Guam 01-005 | Agat Bay, Guam | Safety Zone | 05/06/2001.
Guam 01-006 | North of Glass Breakwater, Guam | Safety Zone | 05/06/2001.
Guam 01-007 | Agat Bay, Guam | Safety Zone | 05/08/2001.
Guam 01-008 | North of Glass Breakwater, Guam | Safety Zone | 05/08/2001.
Guam 01-009 | Cocos Lagoon, Guam | Safety Zone | 05/27/2001.
Guam 01-011 | North of Glass Breakwater, Guam | Safety Zone | 06/08/2001.
Houston/Galveston 01-007 | Gulf Intracoastal Waterway, M. 343 | Safety Zone | 06/04/2001.
Jacksonville 01-038 | Fernandina Beach, FL | Safety Zone | 05/04/2001.
Jacksonville 01-047 | Fernandina Beach, FL | Safety Zone | 05/28/2001.
LA/LB 01-002 | Angels Gate, Los Angeles, CA | Safety Zone | 04/19/2001.
LA/Long Beach 01-003 | Long Beach, CA | Safety Zone | 06/17/2001.
Louisville 01-002 | Ohio River, M. 629 to 632 | Safety Zone | 05/23/2001.
Louisville 01-003 | Riverbats Fireworks, Louisville, KY | Safety Zone | 05/27/2001.
Louisville 01-007 | Aurora, Indiana | Safety Zone | 06/30/2001.
Memphis 01-005 | Mississippi River, M. 532 to 528 | Safety Zone | 04/10/2001.
Memphis 01-006 | Mississippi River, M. 7265.5 to 728.5 | Safety Zone | 04/14/2001.
New Orleans 01-009 | Lwr Mississippi River | Safety Zone | 04/19/2001.
New Orleans 01-019 | Ouachita River, M. 166 to 168 | Safety Zone | 06/30/2001.
Paducah 01-001 | Upr Mississippi River, M. 0 to 1 | Safety Zone | 05/18/2001.
Philadelphia 01-003 | Port of Wilmington, Wilmington, DE | Security Zone | 05/25/2001.
Port Arthur 01-004 | Neches River, Beaumont, TX | Safety Zone | 04/01/2001.
Port Arthur 01-005 | Port of Orange, Beaumont, TX | Safety Zone | 04/11/2001.
Port Arthur 01-006 | Port of Orange/Port Arthur, TX | Safety Zone | 06/23/2001.
Port Arthur 01-007 | Gulf Intracoastal Waterway, M. 290 | Safety Zone | 06/15/2001.
San Diego 01-006 | San Clemente Island, CA | Security Zone | 04/18/2001.
San Diego 01-011 | Colorado River | Safety Zone | 05/01/2001.
San Diego 01-015 | Bio-Tech 2001 Conference | Safety Zone | 06/22/2001.
San Francisco Bay 01-001 | San Francisco Bay, San Francisco, CA | Safety Zone | 04/02/2001.
San Francisco Bay 01-002 | Suisun Bay, CA | Safety Zone | 04/21/2001.
San Juan 01-025 | Guayanilla, Puerto Rico | Safety Zone | 04/05/2001.
Savannah 01-051 | Beaufort, SC | Safety Zone | 06/04/2001.
St. Louis 01-001 | Upper Mississippi River, M. 55.3 to 860 | Safety Zone | 04/14/2001.
Tampa 01-030 | Tampa Bay, FL | Safety Zone | 04/19/2001.
Tampa 01-031 | Tampa Bay, FL | Security Zone | 04/16/2001.
Tampa 01-036 | Tampa Bay, FL | Security Zone | 04/27/2001.

Regulations Not on Previous 1st Quarterly Report
District/COTP | Location | Type | Effective date
COTP Regulations
Guam 01-003 | Outer Apra Harbor, Guam | Safety Zone | 03/13/01.
Houston/Galveston 01-004 | Houston, TX | Safety Zone | 03/21/01.
New Orleans 01-008 | Lwr Mississippi River, M 108 to 110 | Safety Zone | 03/31/01.
Port Arthur 01-003 | Port or Port Arthur/Orange, TX | Safety Zone | 02/18/01.

[FR Doc. 01-27870 Filed 11-5-01; 8:45 am]

BILLING CODE 4910-15-M